ADVISORY COUNCIL ON HISTORIC PRESERVATION

Notice of Advisory Council on Historic Preservation Quarterly Business Meeting

AGENCY: Advisory Council on Historic Preservation.

ACTION: Notice of Advisory Council on Historic Preservation Quarterly Business Meeting.

SUMMARY: Notice is hereby given that the Advisory Council on Historic Preservation (ACHP) will hold its next quarterly meeting on Thursday, July 17, 2014. The meeting will be held in the Auditorium at Houston Hall, Perelman Quadrangle at the University of Pennsylvania, 3417 Spruce Street, Philadelphia, PA, starting at 8:00 a.m.

DATES: The quarterly meeting will take place on Thursday, July 17, 2014, starting at 8:00 a.m. EST.

ADDRESSES: The quarterly meeting will be held in the Auditorium at Houston Hall, Perelman Quadrangle at the University of Pennsylvania, 3417 Spruce Street, Philadelphia, PA.

FOR FURTHER INFORMATION CONTACT: Cindy Bienvenue, 202-517-0202, cbienvenue@achp.gov.

SUPPLEMENTARY INFORMATION: The Advisory Council on Historic Preservation (ACHP) is an independent federal agency that promotes the preservation, enhancement, and sustainable use of our nation's diverse historic resources, and advises the President and the Congress on national historic preservation policy. The goal of the National Historic Preservation Act (NHPA), which established the ACHP in 1966, is to have federal agencies act as responsible stewards of our nation's resources when their actions affect historic properties. The ACHP is the only entity with the legal responsibility to encourage federal agencies to factor historic preservation into federal project requirements. For more information on the ACHP, please visit our Web site at www.achp.gov.

The agenda for the upcoming quarterly meeting of the ACHP is the following:

Call to Order—8 a.m.

I. Chairman's Welcome

II. Chairman's Report

III. Historic Preservation Policy and Programs

A. Building a More Inclusive Preservation Program

1. Proposed Executive Order

2. Congressional Black Caucus Staff Briefing

3. Asian American-Pacific Islander Initiative

B. Working with Indian Tribes

1. Proposed ACHP Policy for Tribal Historic Preservation Officers

2. Delegation of Authority to Approve Substitution of Tribal Procedures for Section 106

3. Section 106 as a Model Sacred Site Protection Process

4. Funding for Tribal and State Historic Preservation Programs

C. Preserve America Program

D. 50th Anniversary of the National Historic Preservation Act

E. Rightsizing Task Force Report and Implementation Plan

F. ACHP Legislative Agenda

IV. Section 106 Issues

A. Northern Plains Tribal Summit

B. Unified Federal Review for Disaster Recovery Projects

C. Major Program Initiatives Update

1. Report to Congress on Historic Post Offices Disposals

2. Federal Communications Commission Program Alternative for Positive Train Control

3. 2015 Section 3 Report to the President

V. ACHP Management Issues

A. ACHP FY 2015 Budget

B. Alumni Foundation Report

C. ACHP Strategic Plan Revision

VI. New Business

VII. Joint Session with NCSHPO Board of Directors

VIII. Adjourn

The meetings of the ACHP are open to the public. If you need special accommodations due to a disability, please contact Cindy Bienvenue, 202-517-0202 or cbienvenue@achp.gov, at least seven (7) days prior to the meeting.

Authority: 16 U.S.C. 470j.

Dated: June 24, 2014.
Javier E. Marques,
Associate General Counsel.

[FR Doc. 2014-15225 Filed 6-27-14; 8:45 am]

BILLING CODE 4310-K6-P